UNITED STATES POSTAL SERVICE BOARD OF GOVERNORS

Sunshine Act Meeting

DATE OF MEETING: September 10, 2001.

STATUS: Closed.

PREVIOUS ANNOUNCEMENT: 66 FR 45066, August 27, 2001.

ADDITIONS: 1. Extension of Experimental Ride Along Case.

2. Filing of Experimental Case for Delivery Confirmation.

At its meeting on September 10, 2001, the Board of Governors of the United States Postal Service voted unanimously to add these items to the agenda of its closed meeting and that no earlier announcement was possible. The General Counsel of the United States Postal Service certified that in her opinion discussion of this term could be properly closed to public observation.

CONTACT PERSON FOR MORE INFORMATION: David G. Hunter, Secretary of the Board, U.S. Postal Service, 475 L'Enfant Plaza, SW., Washington, DC.

David G. Hunter,
Secretary.

[FR Doc. 01-24078 Filed 9-21-01; 1:17 pm]

BILLING CODE 7710-12-M